NATIONAL FOUNDATION ON THE ARTS AND THE HUMANITIES

Institute of Museum and Library Services

Submission for OMB Review, Comment Request, Proposed Collection: IMLS Grant Application Forms

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This notice proposes the clearance of the IMLS Grant Application Forms for another three year period.

A copy of the proposed information collection request can be obtained by contacting the individual listed below in the ADDRESSES section of this notice.

DATES: Comments must be submitted to the office listed in the FOR FURTHER INFORMATION CONTACT section below on or before June 17, 2018.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Dr. Sandra Webb, Director of Grant Policy and Management, Institute of Museum and Library Services, 955 L'Enfant Plaza North SW, Suite 4000, Washington, DC 20024-2135. Dr. Webb can be reached by Telephone: 202-653-4718 Fax: 202-653-4608, or by email at swebb@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to transform the lives of individuals and communities. To learn more, visit www.imls.gov.

Current Actions: To administer the IMLS processes of grants and cooperative agreements, IMLS uses standardized application forms, guidelines and reporting forms for eligible libraries, museums, and other organizations to apply for its funding. These forms submitted for public review in this Notice are the Program Information Sheet, the Budget Form spreadsheet, and the Digital Product Form. This collection of information from these forms are a part of the IMLS grant application process.

Agency: Institute of Museum and Library Services.

Title: Grant Application Forms.

OMB Number: 3137-0092.

Frequency: Twenty times per year.

Affected Public: Library and Museum grant applicants.

Number of Respondents: 4186.

Estimated Average Burden per Response: 4.25 hours.

Estimated Total Annual Burden: 5484.50 hours.

Total Annualized Capital/Startup Costs: n/a.

Total Annual Costs: $138,319.09.

Dated: May 14, 2018.
Kim Miller,
Grants Management Specialist, Office of Grants Policy and Management.

[FR Doc. 2018-10556 Filed 5-16-18; 8:45 am]

BILLING CODE 7036-01-P